DEPARTMENT OF HEALTH AND HUMAN SERVICES

Centers for Disease Control and Prevention

[60Day-26-1166; Docket No. CDC-2025-1014]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled Poison Center Collaborations for Public Health Emergencies (PCCPHE). PCCPHE creates a timely mechanism which will allow a network of poison centers, supported by CDC, to obtain critical exposure and health information during a public health emergency.

DATES: CDC must receive written comments on or before March 16, 2026.

ADDRESSES: You may submit comments, identified by Docket No. CDC-2025-1014 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Poison Center Collaborations for Public Health Emergencies (PCCPHE) (OMB Control No. 0920-1166, Exp. 04/30/2026)—Revision—National Center for Environmental Health (NCEH), Centers for Disease Control and Prevention (CDC).

Background and Brief Description

The Centers for Disease Control and Prevention (CDC) is requesting a three-year Paperwork Reduction Act (PRA) Revision of the Generic Information Collection Request (Generic ICR) titled Poison Center Collaborations for Public Health Emergencies (PCCPHE) (OMB Control No. 0920-1166; Expiration date 04/30/2026).

CDC's key partner is America's Poison Centers™, formerly known as the American Association of Poison Centers (AAPCC). America's Poison Centers™ is a national network of 53 poison centers working to prevent and treat poison exposures. America's Poison Centers™ manages its existing surveillance system called the National Poison Data System (NPDS) and provides CDC access to monitor this system under a cooperative agreement and a data license agreement.

When a public health emergency of interest emerges in NPDS, the CDC and America's Poison Centers™ hold a meeting to mutually decide whether the incident needs further investigation. For a public health emergency to be selected for call-back, adverse health effects must have occurred, and a response is needed to prevent further morbidity and mortality. The incident must meet the following criteria: (1) the incident is a public health emergency causing adverse health effects; (2) timely data are urgently needed to inform rapid public health action to prevent or reduce injury, disease, or death; (3) the incident is characterized by a natural or man-made disaster, contaminated food or water, a new or existing consumer product, or an emerging public health threat; (4) the incident has resulted in calls to a poison center, and the poison center agrees to conduct the call-back data collection; (5) the incident is domestic; and (6) data collection will be completed in 60 days or less.

The purpose of this Generic ICR is to create a timely mechanism to allow poison centers, supported by CDC, to follow-up with callers during select public health emergencies on exposure and health. These PCCPHE Generic information collections (GenICs) will obtain information on sources of exposure, scenario of exposure, health seeking behaviors following exposure, and awareness of health communication messaging. These additional data can help CDC identify interventions to improve health messaging meant to reduce exposure; improve disaster and emergency response; and prevent future incidents for the specific area or incident of interest.

Trained poison center staff will conduct the call-back telephone survey or will facilitate the call-back web survey, after administering consent. Respondents will include individuals who call poison centers about exposures related to the select public health emergencies. These respondents include adults, 18 years and older; adolescents, 15 to less than 18 years; and parents or guardians on behalf of their children less than 15 years of age.

In 2019, a PCCPHE GenIC, titled “Risk Factors for Harmful Algal Blooms (HABs),” was conducted to identify sources of and risk factors for HAB exposures. New information gained about HAB exposures were used to improve HAB incident response, communication, and outreach at the state and national level.

No PCCPHE GenICs were conducted during the past three-year approval period. However, two NPDS-related follow-up studies were implemented during the 2020-2023 approval period using the Secretary's Public Health Emergency PRA Waiver for COVID-19. During a non-pandemic situation, these two studies would have used this Generic ICR. These studies assessed unintentional exposures associated with cleaning products (e.g., bleach, hand sanitizers) in home settings to determine knowledge, attitudes, and practices regarding cleaning behaviors and help guide public health messaging.

CDC requests OMB approval for an estimated 250 annual burden hours. No revisions affecting public burden are proposed and there is no cost to the respondents other than their time.

Estimated Annualized Burden Hours
Type of respondents | Form name | Number of respondents | Number of responses per respondent | Average burden per response (in hours) | Total burden (in hours)
Adult Poison Center Callers | Call-back Questionnaire for Self | 1,200 | 1 | 10/60 | 200
Adolescent Poison Center Callers | Call-back Questionnaire for Self | 150 | 1 | 10/60 | 25
Parent or Guardian Poison Center Callers | Call-back Questionnaire for Proxy | 150 | 1 | 10/60 | 25
Total |  |  |  |  | 250

Jeffrey M. Zirger,
Lead, Information Collection Review Office, Office of Public Health Ethics and Regulations, Office of Science, Centers for Disease Control and Prevention.

[FR Doc. 2026-00718 Filed 1-14-26; 8:45 am]

BILLING CODE 4163-18-P